FEDERAL MARITIME COMMISSION

[Petition No. P1-22]

Petition of Expeditors International of Washington, Inc. for a Temporary Exemption From the Statutory Tariff Publication Requirements; Notice of Filing and Request for Comments

Served: February 25, 2022.

Notice is hereby given that Expeditors International of Washington, Inc., (“Petitioner”) has petitioned the Commission pursuant to 46 U.S.C. 40103 and 46 CFR 502.92 requesting a 90-day “exemption from the statutory tariff publication requirements at 46 U.S.C. 40501 and the corresponding FMC regulations at 46 CFR 520.7(c), 520.8(a)(1) and 520.8(a)(4) . . . .” Petitioner states that it is a non-vessel-operating common carrier (NVOCC) and that the exemption would “allow time for it to cope with the consequences of a targeted cyber-attack that caused it to shut down most of its operating systems globally in protection of its systems, including its ability to access and update its electronic ocean transportation rate tariffs”.

In order for the Commission to make a thorough evaluation of the requested exemption and rulemaking presented in the Petition, pursuant to 46 CFR 502.92, interested parties are requested to submit views or arguments in reply to the Petition no later than March 7, 2022. Replies shall be sent to the Secretary by email to Secretary@fmc.gov or by mail to Federal Maritime Commission, 800 North Capitol Street NW, Washington, DC 20573-0001, and replies shall be served on Petitioner's counsel, Richard D. Gluck, Foster Garvey PC, 1000 Potomac Street NW, Suite 200, Washington, DC 20007, Richard.Gluck@foster.com.

Non-confidential filings may be submitted in hard copy to the Secretary at the above address or by email as a PDF attachment to Secretary@fmc.gov and include in the subject line: P1-22 (Commenter/Company). Confidential filings should not be filed by email. A confidential filing must be filed with the Secretary in hard copy only and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials and shall indicate on the cover page and on each affected page “Confidential materials excluded.” Public versions of confidential filings may be submitted by email. The Petition will be posted on the Commission's website at http://www.fmc.gov/P1-22. Replies filed in response to the Petition will also be posted on the Commission's website at this location.

William Cody,
Secretary.

[FR Doc. 2022-04437 Filed 3-2-22; 8:45 am]

BILLING CODE 6730-02-P